DEPARTMENT OF TRANSPORTATION

Pipeline and Hazardous Materials Safety Administration

[Docket ID PHMSA-RSPA-2004-19854]

Notice of Public Webinar on Implementation of Distribution Integrity Management Programs

AGENCY: Pipeline and Hazardous Materials Safety Administration (PHMSA), DOT.

ACTION: Notice of Public Webinar.

SUMMARY: Distribution pipeline operators were required to have prepared and implemented distribution integrity management plans (DIMP) by August 2, 2011. Federal and state regulators have begun inspecting those plans and their implementation. This webinar will be the first opportunity for the regulators to share their findings broadly with the regulated community. The webinar will also include discussion of analyses of the initial submissions of data concerning mechanical fitting failures in distribution pipelines.

DATES: The webinar will be held on January 25, 2012, from 11 a.m. to 12:30 p.m. EST. Refer to the DIMP Web site for additional information: http://primis.phmsa.dot.gov/dimp/index.htm.

ADDRESSES: Comments: Members of the public may also submit written comments, either before, during, or after the webinar. Comments should reference Docket ID PHMSA-RSPA-2004-19854. Comments and questions can be submitted during the webinar through LiveMeeting. Instructions describing how to submit questions will be given at the beginning of the webinar. Comments may be submitted before or after the webinar in the following ways:

• DIMP Web site: http://primis.phmsa.dot.gov/dimp/comment.htm. This site allows the public to enter questions and comments about DIMP before or after the webinar. Instructions for submitting comments are provided on that Web site.

• E-Gov Web Site: http://www.regulations.gov. This site allows the public to enter comments on any Federal Register notice issued by any agency. Follow the instructions for submitting comments.

• Fax: 1-(202) 493-2251.

• Mail: Docket Management System, U.S. Department of Transportation (DOT), 1200 New Jersey Avenue SE., Room W12-140, Washington, DC 20590.

• Hand Delivery: DOT, Docket Management System, Room W12-140, on the ground floor of the West Building, 1200 New Jersey Avenue SE., Washington, DC between 9 a.m. and 5 p.m., Monday through Friday, except Federal holidays.

Instructions: Identify the Docket ID at the beginning of your comments. If you submit your comments by mail, submit two copies. If you wish to receive confirmation that PHMSA has received your comments, include a self-addressed stamped postcard. Internet users may submit comments at http://www.regulations.gov. Note: Comments will be posted without changes or edits to http://www.regulations.gov including any personal information provided. Please see the Privacy Act statement immediately following for additional information.

Privacy Act Statement: Anyone may search the electronic form of all comments received for any of our dockets. You may review DOT's complete Privacy Act Statement in the Federal Register published April 11, 2000 (65 FR 19477).

Information on Services for Individuals with Disabilities: For information on facilities or services for individuals with disabilities, or to request special assistance during the webinar, please contact Chris McLaren at (281) 216-4455 by January 6, 2012.

Copies of the presentations will be available on the DIMP Web site and in the docket PHMSA-2004-19854 at http://www.regulations.gov, within 30 days following the webinar.

FOR FURTHER INFORMATION CONTACT: Chris McLaren by e-mail at Chris.Mclaren@dot.gov or by phone at (281) 216-4455.

SUPPLEMENTARY INFORMATION:

Purpose: The DIMP regulation was published December 4, 2009, (74 FR 63906) and became effective on August 2, 2011. This regulation represents a new approach to assuring the safety and integrity of distribution pipelines. Previously, regulations presented highly-prescriptive requirements for which it was relatively easy to understand what needed to be done to comply. DIMP is much less prescriptive. It requires pipeline operators to analyze their pipeline systems, identify threats and risks that may be unique to their systems, and take appropriate actions to address those threats and risks. Distribution pipeline operators previously have not been required to comply with such a performance-based rule.

A DIMP Implementation Team (Team) was created as a collaboration of state and Federal regulators to support improvements in the integrity of the Nation's gas distribution pipeline systems through development of inspection methods and guidance for the evaluation of an Operator's DIMP. The Team recognized the challenges posed by the individual characteristics of each state's oversight program and operating conditions as well as the evolutionary process that distribution system operators would go through in building an integrity management culture from a prescriptive, compliance based culture. Due to the high-level, risk-based, performance-oriented nature of the regulations contained in 49 CFR 192.1001-192.1015, the Team recognized that operators could benefit from guidance in implementing their programs. The team sponsored two webinars to provide operators with information and to direct operators to resource material. These webinars were conducted on May 10 and June 8, 2011. This was prior to the August 2, 2011, effective date of the rule by which time operators were required to have developed and implemented their DIMP plans.

The August 2, 2011, deadline has now passed. Distribution pipeline operators must have implemented their DIMP plans. Initial inspections of these plans have begun. The material presented at this webinar will summarize this inspection experience, including the types of concerns that have been identified and where the initial inspection experience indicates that operators should devote additional attention to assure compliance.

States are implementing the DIMP rule under their individual state statutory authority in accordance with the applicable certification under 49 U.S.C. 60105 or agreement under section 60106. State inspectors will participate in this webinar, but not all states will be represented. Since regulatory structures differ among states, operators should contact the state authority regulating their distribution pipeline system for more information.

The DIMP rule also required distribution pipeline operators to report failures of mechanical fittings that result in hazardous leaks. Such failures have been the cause of a number of serious accidents on distribution pipelines. Collection of this data is intended to facilitate better understanding of the causes of fitting failures and actions that can/should be taken to prevent future failures. Operators have the option of submitting reports as failures occur or of submitting all reports for a calendar year by March 15 of the following year. The new reporting requirement became effective on April 4, 2011. Operators have submitted many reports to PHMSA. These reports will be analyzed before the webinar and PHMSA will discuss the results of these analyses. Operators should note that lessons from mechanical fitting failure reporting will be preliminary at this time. They will be based on a limited set of data. The data set is likely to increase significantly as additional reports are received on or before March 15, 2012. Even then, though, only one year of data will be available, which may not be sufficient to identify trends. Nevertheless, the initial analyses will provide some information that will be shared with stakeholders, and operators will be given a chance to comment on the mechanical fitting failure reporting process.

Preliminary Webinar Agenda

January 25, 2012, DIMP Implementation Webinar Agenda

• Welcome, Introductions, and Overview.

• Initial DIMP Inspection Findings.

• Results of Initial Analyses of Mechanical Fitting Failure Reports.

• Question & Answer Session.

• Session Concludes.

Registration: Members of the public may attend this free webinar. To help ensure that adequate space is provided, all attendees are required to register for the webinar at http://opsweb.phmsa.dot.gov/webinars. Upon registration, LiveMeeting information will be distributed. Due to the limited capacity, we encourage and request that parties at the same location share a LiveMeeting link. The Webinars will use the audio feature of LiveMeeting and not a standard phone line for the voice portion of the Webinars.

Issued in Washington, DC on December 20, 2011.
Jeffrey D. Wiese,
Associate Administrator for Pipeline Safety.

[FR Doc. 2011-33165 Filed 12-23-11; 8:45 am]

BILLING CODE 4910-60-P